DEPARTMENT OF COMMERCE

National Oceanic and Atmospheric Administration

50 CFR Part 679

[Docket No. 020620154-2154-01; I.D. 052902A]

RIN 0648-AQ10

Fisheries of the Exclusive Economic Zone Off Alaska; Change of the Name of the Salmon Fisheries Management Plan

AGENCY: National Marine Fisheries Service (NMFS), National Oceanic and Atmospheric Administration (NOAA), Commerce.

ACTION: Technical correction.

SUMMARY: NMFS is correcting the title of the Fishery Management Plan for the Salmon Fisheries in the Exclusive Economic Zone (EEZ) off Alaska (FMP). This action is necessary to make the name of the FMP in Federal regulations consistent with the actual name of the FMP as approved by the Secretary of Commerce (Secretary). The intended effect of this action is regulatory consistency, and it will have no effect on any person fishing in the EEZ for any species.

DATES: Effective on July 31, 2002.

FOR FURTHER INFORMATION CONTACT: Patsy A. Bearden, 907-586-7228.

SUPPLEMENTARY INFORMATION: Salmon fisheries in the EEZ off Alaska are managed pursuant to the FMP prepared by the North Pacific Fishery Management Council (Council) and approved and implemented by the Secretary under authority of the Magnuson-Stevens Fishery Conservation and Management Act. The original title of the salmon FMP was the “Fishery Management Plan for the High Seas Salmon Fishery off the Coast of Alaska East of 175 Degrees East Longitude.”

Over time, the international regime affecting salmon fisheries changed and the Council revisited its salmon management policies. In 1989, the Council adopted an amendment to the FMP (Amendment 3) which, among other things, changed the title of the FMP to, “Fishery Management Plan for the Salmon Fisheries in the EEZ off the Coast of Alaska.” The Secretary approved Amendment 3 to the FMP in 1990, and published implementing rules on November 15, 1990 (55 FR 47773).

NMFS has discovered that regulations implementing Amendment 3 did not include the new title of the FMP. This change should have been included in the 1990 regulatory changes implementing Amendment 3 but was not due to oversight. No public comment was received on these or any of the other changes made by Amendment 3. Subsequent consolidation of all Federal fishery regulations off Alaska pursuant to President Clinton’s Regulatory Reform Initiative did not correct the error (62 FR 19686, April 23, 1997).

This action corrects this error by changing the title of the FMP as it appears in regulations codified at 50 CFR part 679 to be consistent with the FMP as amended and approved by the Secretary. This action will not have any substantive regulatory effect.

Classification

This action changes the title of the salmon FMP, a non-discretionary technical change with no substantive effects. Therefore, the Assistant Administrator for Fisheries, NOAA, finds good cause to waive the requirement to provide prior notice and opportunity for public comment under 5 U.S.C. 553(b)(B), as such procedure would be unnecessary. Because prior notice and opportunity for comment is not required for this action by 5 U.S.C. 553 or any other law, the analytical requirements of the Regulatory Flexibility Act, 5 U.S.C. 601 et seq.are not applicable.

List of Subjects in 50 CFR Part 679

Alaska, Fisheries, Recordkeeping and reporting requirements.

Dated: June 25, 2002.
William T. Hogarth
Assistant Administrator for Fisheries, National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C 773 et seq.; 1801 et seq.; 3631 et seq.; Title II Division C, Pub. L. 105-277; Sec. 3027, Pub. L. 106-31; 113 Stat. 57; 16 U.S.C. 1540(f); and Sec. 209, Pub. L. 106-554. et seq.

2. In § 679.1, the heading of paragraph (i) is revised to read as follows:

§ 679.1 Purpose and scope.

(i) Fishery Management Plan for the Salmon Fisheries in the EEZ off the Coast of Alaska (Salmon FMP).* * *

[FR Doc. 02-16382 Filed 6-28-02; 8:45 am]

BILLING CODE 3510-22-S